DEPARTMENT OF THE INTERIOR

U.S. Geological Survey

[USGS-GX12GL00DT70500]

Agency Information Collection Activities: National Geological and Geophysical Data Preservation Program (NGGDPP)

AGENCY: U.S. Geological Survey (USGS), Interior.

ACTION: Notice of an extension of an existing information collection (1028-0087).

SUMMARY: To comply with the Paperwork Reduction Act of 1995 (PRA), we are notifying the public that we have submitted to the Office of Management and Budget (OMB) a new information collection request (ICR) for the extension of the paperwork requirements for the National Geological and Geophysical Data Preservation Program (NGGDPP). This notice provides the public and other Federal agencies an opportunity to comment on the nature of this collection which is scheduled to expire on July 31, 2012.

DATES: You must submit comments on or before August 27, 2012.

ADDRESSES: Please submit comments on this information collection directly to the Office of Management and Budget, Office of Information and Regulatory Affairs, Attention: Desk Officer for the Department of the Interior, via email (OIRA_DOCKET@omb.eop.gov) or fax 202-395-5806; and identify your submission as 1028-0087.

Please submit a copy of your comments to the USGS Information Collection Clearance Officer, U.S. Geological Survey, 12201 Sunrise Valley Drive MS 807, Reston, VA 20192 (mail); 703-648-7199 (fax); or smbaloch@usgs.gov (email). Please reference Information Collection 1028-0087.

FOR FURTHER INFORMATION CONTACT: Betty M. Adrian at (303) 202-4828 or by mail at U.S. Geological Survey, Box 25046, Mail Stop 975, Denver, CO 80225. You may also find this information collection request as submitted to OMB at www.reginfo.gov.

SUPPLEMENTARY INFORMATION:

I. Abstract

This notice concerns the collection of information that is sufficient and relevant to evaluate and select proposals for funding under the NGGDPP. We will accept proposals from State geological surveys requesting funds to inventory and assess the condition of current collections and data preservation needs. Financial assistance will be awarded annually on a competitive basis following the evaluation and ranking of State proposals by a review panel composed of representatives from the Department of the Interior, State geological surveys, academic institutions, and the private sector. To submit a proposal, respondents must complete a project narrative and submit the application via www.grants.gov. Grant recipients must complete a final technical report at the end of the project period. Narrative and report guidance is available through http://datapreservation.usgs.gov/ and at www.grants.gov.

II. Data

OMB Control Number: 1028-0087.

Title: National Geological and Geophysical Data Preservation Program (NGGDPP).

Respondent Obligation: Required to obtain or retain a benefit.

Frequency of Collection: Annually.

Estimated Number and Description of Respondents: 62 State Geological Surveys.

Estimated Number of Annual Responses: 62 (34 applications and 28 reports).

Estimated Annual Reporting and Recordkeeping “Hour” Burden: 1,266 hours. We expect to receive approximately 34 applications. It takes each applicant approximately 36 hours to complete the narrative and to present supporting documents. This includes the time for project conception and development, proposal writing and reviewing, and submitting the proposal application through Grants.gov (totaling 1,224 burden hours). We anticipate awarding 28 grants per year. The award recipients must submit a final report. We estimate that it will take approximately 1.5 hours to complete the requirement for the reports (totaling 42 hours).

Estimated Reporting and Recordkeeping “Non-Hour Cost” Burden: There are no “non-hour cost” burdens associated with this collection of information.

III. Request for Comments

On March 2, 2012 we published a Federal Register notice (77 FR 12871) announcing that we would submit this information collection to OMB for approval. The notice provided a 60-day public comment period ending on May 1, 2012. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, email address or other personal identifying information in your comment, you should be aware that your entire comment including your personal identifying information, may be made publically available at anytime. While you can ask us in your comment to withhold your personal identifying information from public review, we cannot guarantee that we will be able to do so.

Dated: July 19, 2012.
Betty M. Adrian,
Acting Program Coordinator, National Geological and Geophysical Data Preservation.

[FR Doc. 2012-18340 Filed 7-26-12; 8:45 am]

BILLING CODE 4311-AM-P